EXPORT-IMPORT BANK OF THE UNITED STATES

Economic Impact Policy

This notice is to inform the public that the Export-Import Bank of the United States has received an application to support the export of approximately $750 million in U.S. petrochemical manufacturing equipment and services for the construction of a new petrochemical facility in Mexico. The financed amount associated with the U.S. export contract, including local cost and interest during construction, is expected to total approximately $900 million. Ex-Im Bank may also be requested to provide up to $400 million of additional financing should a co-financing structure with the Italian ECA materialize.

The U.S. exports will enable the Mexican petrochemical facility to produce approximately 750,000 metric tons of high-density polyethylene (HDPE) and 300,000 metric tons of low-density polyethylene (LDPE) annually. The Mexican petrochemical producer plans to sell its products primarily within Mexico, and also to the U.S., Central America, and South America.

Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-1513 Filed 1-24-12; 8:45 am]

BILLING CODE 6690-01-P